DEPARTMENT OF ENERGY

Federal Energy Regulatory Commission

[Docket Nos. ER07-1289-002; ER07-1289-003; ER07-1289-004; ER07-1289-005]

ISO New England Inc.; Notice Shortening Response Time

April 24, 2008.

On April 22, 2008, New England Power Pool Participants Committee, ISO New England Inc., MEPCO H.Q. Energy Services (U.S.), Inc. and the Participating Transmission Owners Administrative Committee (collectively, Joint Movants) filed a Joint Emergency Motion to Establish Hearing Procedures in the above-referenced proceeding (April 22 Motion). Included in the filing was a request to shorten the period for submission of answers to the Joint Movants' motion to April 25, 2008. On April 23, 2008, Casco Bay Energy Company, LLC, filed an answer opposing the Joint Movants' request to shorten the response period.

By this notice, the request to establish April 25, 2008 as the date for filing answers to the April 22 Motion is denied. However, we will shorten the response period to and including May 2, 2008.

Kimberly D. Bose,
Secretary.

[FR Doc. E8-9795 Filed 5-2-08; 8:45 am]

BILLING CODE 6717-01-P